DEPARTMENT OF COMMERCE

National Oceanic and Atmospheric Administration

RIN 0648-XE322

Caribbean Fishery Management Council; Public Meeting

AGENCY: National Marine Fisheries Service (NMFS), National Oceanic and Atmospheric Administration (NOAA), Commerce.

ACTION: Notice of a public meeting.

SUMMARY: The Caribbean Fishery Management Council (Council) will hold its 154th meeting.

DATES: The meeting will be held on December 15-16, 2015. The Council will convene on Tuesday, December 15, 2015, from 9 a.m. to 6 p.m., and will reconvene on Wednesday, December 16, 2015, from 9 a.m. to 5 p.m.

ADDRESSES: The meeting will be held at the Marriott Frenchman's Reef Beach Resort, #5 Estate Bakkeroe, St. Thomas, USVI 00801.

FOR FURTHER INFORMATION CONTACT: Caribbean Fishery Management Council, 270 Muñoz Rivera Avenue, Suite 401, San Juan, Puerto Rico 00918, telephone (787) 766-5926.

SUPPLEMENTARY INFORMATION: The Council will hold its 154th regular Council Meeting to discuss the items contained in the following agenda:

December 15, 2015, 9 a.m.-5 p.m.

°Call to Order

°Adoption of Agenda

°Consideration of 153rd Council Meeting Verbatim Transcriptions

°Executive Director's Report

°Report of Public Hearings on Timing of Accountability Measures-Based Closures Amendment

°SSC Report—Dr. Richard Appeldoorn

°SEDAR 46 Workshop (Nov. 2015) Report

°Island Based FMP Developments Status and Next Steps

°AM-Based Season Closure Schedule for 2016

°NOAA Fisheries Ecosystem Based Fisheries Management Policy and Planning—Heather Sagar

—PUBLIC COMMENT PERIOD—(5-minutes presentations)

December 15, 2015, 5:15 p.m.-6 p.m.

°Administrative Matters

—Budget Update FY 2015/16

—Other Administrative Business

—Closed Session

December 16, 2015, 9 a.m.-5 p.m.

°Outreach and Education Report—Dr. Alida Ortíz

°MREP Update—Helena Antoun

°USVI Coral Reef Initiative—Ms. Leslie Henderson

°Coral Habitat and Queen Snapper Ecosystem—Dr. Jorge R. García-Sais

°Enforcement Issues:

—Puerto Rico-DNER

—U.S. Virgin Islands-DPNR

—U.S. Coast Guard

—NMFS/NOAA

°Meetings Attended by Council Members and Staff

—PUBLIC COMMENT PERIOD—(5-minute presentations)

°Other Business

°Next Council Meetings in 2016

°DAPs/SSC Meeting in March 2016

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: November 23, 2015.
Tracey L. Thompson,
Acting Deputy Director, Office of Sustainable Fisheries, National Marine Fisheries Service.

[FR Doc. 2015-30171 Filed 11-25-15; 8:45 am]

BILLING CODE 3510-22-P